DEPARTMENT OF THE INTERIOR

National Park Service

National Register of Historic Places; Notification of Pending Nominations and Related Actions

Nominations for the following properties being considered for listing or related actions in the National Register were received by the National Park Service before April 26, 2007. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW, 8th floor, Washington DC 20005; or by fax, 202-371-6447. Written or faxed comments should be submitted by May 29, 2007.

J. Paul Loether,
Chief, National Register of Historic Places/National Historic Landmarks Program.

ARIZONA

Apache County

Chinle Franciscan Mission Historic District, Indian Service Rte 7, across road and SW of the Chinle Judicial complex and Police Station, Chinle, 07000506

ARKANSAS

Arkansas County

Stuttgart Commercial Historic District, Roughly bounded by 1st St., College St., 6th St., and Maple St., Stuttgart, 07000502

Ashley County

Parkdale Methodist Church, S. Church St., Parkdale, 07000505

Faulkner County

Castleberry—Harrington Historic District, (Mixed Masonry Buildings of Silas Owens, Sr. MPS) Castleberry Rd., Republican, 07000503

Van Buren County

Patterson, Walter, House, (Mixed Masonry Buildings of Silas Owens, Sr. MPS) 1800 U.S. 65N, Clinton, 07000504

CALIFORNIA

Amador County

Paugh, William H., House, 406 Pitt St., Jackson, 07000507

CONNECTICUT

Windham County

Hemlock Glen Industrial Archeological District, Address Restricted, Hampton, 07000508

DISTRICT OF COLUMBIA

District of Columbia

Engine Company 12, (Firehouses in Washington DC MPS) 1626 N. Capitol St., NW, Washington, 07000537

Engine Company 17, (Firehouses in Washington DC MPS) 1235 Monroe St. NE, Washington, 07000538

Engine Company 23, (Firehouses in Washington DC MPS) 2119 G, NW, Washington, 07000540

Engine Company 26, (Old), (Firehouses in Washington DC MPS) 2715 22nd St. NE, Washington, 07000536

Engine Company 29, (Firehouses in Washington DC MPS) 4811 MacArthur Blvd. NW, Washington, 07000534

Truck Company F, (Firehouses in Washington DC MPS) 1336-1338 Park Rd. NW, Washington, 07000539

Truck House No. 13, (Firehouses in Washington DC MPS) 1342 Florida Ave. NE, Washington, 07000535

FLORIDA

Polk County

Griffin Grammar School,

3315 Kathleen Rd.,

Lakeland, 07000509

HAWAII

Hawaii County

Puako Petroglyph Archeological District (Boundary Increase and Boundary Decrease), Address Restricted, Puako, 07000513

MASSACHUSETTS

Essex County

Walker Body Company Factory, Oak St. at River Court, Amesbury, 07000512

Norfolk County

Elm Park and Isaac Sprague Memorial Tower, 305 Washington St., Wellesley, 07000511

Suffolk County

Goldsmith Block, 41 Ruggles St., 746-750 Shawmut Ave., Boston, 07000510

OHIO

Cuyahoga County

Euclid Avenue Historic District (Boundary Increase), 205 St. Clair Ave., 1370 Ontario St., 1796-1808 E. 13th St., Cleveland, 07000524

OKLAHOMA

Bryan County

Durant Downtown Historic District, Roughly bounded by 4th Ave., Lost St., Evergreen St. and First Ave., Durant, 07000517

Comanche County

Lawton National Guard Armory, 600 Northwest Cache Rd., Lawton, 07000519

Garvin County

Flynt Building, (Territorial Commercial Buildings of Chandler TR) 720 Manvel Ave., Chandler, 07000516

Greer County

Hotel Franklin, 217 West Jefferson, Mangum, 07000520

Kay County

White Eagle Park, N of White Eagle, White Eagle, 07000522

Noble County

Perry Lake Park, 1520 S. 4th St., Perry, 07000523

Oklahoma County

Lake Overholser Dam, NW 16th St. and E. Lake Overholser Dr., Oklahoma City, 07000518

Oklahoma City Municipal Building, 200 N. Walker Ave., Oklahoma City, 07000521

Taft Junior High School, 2901 NW 23rd. St., Oklahoma City, 07000515

Pawnee County

First State Bank of Maramec, Jct. Second Ave. and Hickory St., Maramec, 07000514

PUERTO RICO

Arecibo Municipality, National Astronomy and Ionosphere Center, Esperanza Ward, San Rafael Sector, Rd. 625, Arecibo, 07000525

RHODE ISLAND

Newport County

Borden Farm, 2951 and 2967 E. Main Rd., Portsmouth, 07000528

Providence County

Metcalf—Franklin Farm, 142 Abbott Run Valley Rd., Cumberland, 07000526

Washington County

Hale House, 2625A Commodore Oliver Hazard Perry Hwy., South Kingstown, 07000527

SOUTH DAKOTA

Charles Mix County

Pratt & Cjolme Building, 500 S. Main, Platte, 07000532

Hutchinson County

United Brethren Church in Christ, Lots 5 through 10 in Block 20, Milltown, 07000531

Lawrence County

Whitewood Historic District, 1005-1021 Meade St., Whitewood, 07000529

Turner County

Glud Theatre, 119 N. Main St., Viborg, 07000530

TENNESSEE

Shelby County

Squire's Rest, 8993 Barret Rd., Barretville, 07000533

WISCONSIN

Pierce County

Glen Park Municipal Swimming Pool, 355 Park St., River Falls, 07000542

WYOMING

Albany County

Mountain View Hotel, 2747 WY 130, Centennial, 07000541

[FR Doc. E7-9171 Filed 5-11-07; 8:45 am]

BILLING CODE 4312-51-P